DEPARTMENT OF TRANSPORTATION

Federal Aviation Administration

14 CFR Part 39

[Docket No. FAA-2014-0233; Directorate Identifier 2014-NM-053-AD; Amendment 39-17825; AD 2014-08-01]

RIN 2120-AA64

Airworthiness Directives; Airbus Airplanes

AGENCY: Federal Aviation Administration (FAA), Department of Transportation (DOT).

ACTION: Final rule; request for comments.

SUMMARY: We are superseding Airworthiness Directive (AD) 2014-03-08 for all Airbus Model A318, A319, A320, and A321 series airplanes. AD 2014-03-08 required an inspection to determine the part number of the interconnecting struts installed on the wings, identifying the part number and the serial number of the associated target and proximity sensor if applicable, and replacing or re-identifying the flap interconnecting strut if applicable. This new AD corrects a typographical error that affects the definition of a serviceable interconnecting strut. This AD was prompted by a report that an investigation showed that when a certain combination of a target/proximity sensor serial number is installed on a flap interconnecting strut, a “target FAR” signal cannot be detected when it reaches the mechanical end stop of the interconnecting strut. We are issuing this AD to detect and correct a latent failure of the flap down drive disconnection due to an already-failed interconnecting strut sensor, which could result in asymmetric flap panel movement and consequent loss of control of the airplane.

DATES: This AD becomes effective May 14, 2014.

The Director of the Federal Register approved the incorporation by reference of a certain publication listed in this AD as of March 26, 2014 (79 FR 9398, February 19, 2014).

We must receive comments on this AD by June 13, 2014.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Airbus, Airworthiness Office—EAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0233; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM 116, Transport Airplane Directorate, FAA, 1601 Lind Avenue SW., Renton, WA 98057-3356; telephone (425) 227-1405; fax (425) 227-1149.

SUPPLEMENTARY INFORMATION:

Discussion

On January 22, 2014, we issued AD 2014-03-08, Amendment 39-17745 (79 FR 9398, February 19, 2014). AD 2014-03-08 applied to all Airbus Model A318, A319, A320, and A321 series airplanes. AD 2014-03-08 was prompted by a report that an investigation showed that when a certain combination of a target/proximity sensor serial number is installed on a flap interconnecting strut, a “target FAR” signal cannot be detected when it reaches the mechanical end stop of the interconnecting strut. AD 2014-03-08 required an inspection to determine the part number of the interconnecting struts installed on the wings, identifying the part number and the serial number of the associated target and proximity sensor if applicable, and replacing or re-identifying the flap interconnecting strut if applicable. We issued AD 2014-03-08 to detect and correct a latent failure of the flap down drive disconnection due to an already-failed interconnecting strut sensor, which could result in asymmetric flap panel movement and consequent loss of control of the airplane.

Since we issued AD 2014-03-08, Amendment 39-17745 (79 FR 9398, February 19, 2014), we identified a typographical error that affects the definition of a serviceable interconnecting strut.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

FAA's Determination of the Effective Date

This new AD merely corrects a typographical error that affects the definition of a serviceable interconnecting strut. The requirements of this AD are substantially similar to the requirements of superseded AD 2014-03-08, Amendment 39-17745, (79 FR 9398, February 19, 2014). Therefore, we find that notice and opportunity for prior public comment are unnecessary and that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2014-0233; Directorate Identifier 2014-NM-053-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 755 airplanes of U.S. registry.

The actions that were required by AD 2014-03-08, Amendment 39-17745 (79 FR 9398, February 19, 2014), and are retained in this AD take about 8 work-hours per product, at an average labor rate of $85 per work-hour. Required parts cost about $0 per product. Based on these figures, the estimated cost of the actions that were required by AD 2014-03-08 is $680 per product.

In addition, we estimate that any necessary follow-on actions would take about 10 work-hours and require parts costing $0, for a cost of $850 per product. We have no way of determining the number of aircraft that might need this action.

The new requirements of this AD add no additional economic burden.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2014-03-08, Amendment 39-17745 (79 FR 9398, February 19, 2014), and adding the following new AD:

2014-08-01 Airbus: Amendment 39-17825. Docket No. FAA-2014-0233; Directorate Identifier 2014-NM-053-AD.

(a) Effective Date

This AD becomes effective May 14, 2014.

(b) Affected ADs

This AD supersedes AD 2014-03-08, Amendment 39-17745 (79 FR 9398, February 19, 2014).

(c) Applicability

This AD applies to all Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes; certificated in any category; all manufacturer serial numbers.

(d) Subject

Air Transport Association (ATA) of America Code 27, Flight controls.

(e) Reason

This AD was prompted by a report that an investigation showed that when a certain combination of a target/proximity sensor serial number is installed on a flap interconnecting strut, a “target FAR” signal cannot be detected when reaching the mechanical end stop of the interconnecting strut. We are issuing this AD to detect and correct a latent failure of the flap down drive disconnection due to an already-failed interconnecting strut sensor, which could result in asymmetric flap panel movement and consequent loss of control of the airplane.

(f) Compliance

Comply with this AD within the compliance times specified, unless already done.

(g) Retained Inspection To Determine the Part Number of the Interconnecting Struts

This paragraph restates the requirements of AD 2014-03-08, Amendment 39-17745 (79 FR 9398, February 19, 2014), with a corrected typographical error in paragraph (g)(2)(i) of this AD that affects the definition of a serviceable interconnecting strut. Within 8,000 flight hours after March 26, 2014 (the effective date of AD 2014 03-08), inspect to determine the part number of the interconnecting struts installed on both the left-hand (LH) and right-hand (RH) wings of the airplane, in accordance with the Accomplishment Instructions of Airbus Service Bulletin A320-27-1206, Revision 01, dated October 10, 2011. A review of the airplane maintenance records is acceptable for determining the part number of the installed interconnecting struts, in lieu of the inspection, if the part number of the installed interconnecting struts, and the part number and the serial number of the associated target and proximity sensor, can be conclusively determined from that review.

(1) Airplanes on which Airbus Modification 27956 has been embodied in production, and on which no interconnecting strut has been replaced with a strut having a part number specified in figure 1 to paragraph (g) of this AD since the airplane's first flight: No further work is required by paragraph (g) of this AD.

(2) If, during the inspection required by the introductory text of paragraph (g) of this AD, any interconnecting strut is installed with a part number specified in figure 1 to paragraph (g) of this AD: Within 8,000 flight hours after March 26, 2014 (the effective date of AD 2014 03-08, Amendment 39-17745 (79 FR 9398, February 19, 2014)), determine the part number and the serial number of the associated target and proximity sensor.

(i) For airplanes having conditions specified in paragraphs (g)(2)(i)(A), (g)(2)(i)(B), (g)(2)(i)(C), and (g)(2)(i)(D) of this AD: Before further flight, replace the interconnecting strut with a serviceable unit, in accordance with the Accomplishment Instructions of Airbus Service Bulletin A320-27-1206, Revision 01, dated October 10, 2011. For the purposes of this AD, a serviceable interconnecting strut is a unit which has been determined to be in compliance with the requirements of this AD.

(A) A target part number (P/N) ABS0121-13 or P/N 8-536-01; and

(B) A target serial number lower than 1600, or a target serial number that is unreadable; and

(C) A proximity sensor having P/N ABS0121-31 or P/N 8-372-04; and

(D) A proximity sensor having a serial number between C59198 and C59435, or a serial number (S/N) C500000 or higher.

(ii) For a target having S/N 1600 or higher and target P/N ABS0121-13 or P/N 8-536-01: Within 8,000 flight hours after March 26, 2014 (the effective date of AD 2014 03-08, Amendment 39-17745 (79 FR 9398, February 19, 2014), re-identify the interconnecting strut, in accordance with the Accomplishment Instructions of Airbus Service Bulletin A320-27-1206, Revision 01, dated October 10, 2011.

Figure 1 to Paragraph (g) of This AD—Interconnecting Strut Part Nos.
Interconnecting strut part Nos.
D5757030500000
D5757030500100
D5757030500200
D5757030500600
D5757030500800
D5757030501000
D5757030501200
D5757032200000

(h) Retained Parts Installation Prohibition

This paragraph restates the requirements of AD 2014-03-08, Amendment 39-17745 (79 FR 9398, February 19, 2014). As of March 26, 2014 (the effective date of AD 2014 03-08), no person may install an interconnecting strut with a part number specified in figure 1 to paragraph (g) of this AD, on any airplane, except for parts identified in paragraph (g)(2)(ii) of this AD, provided that the actions in paragraph (g)(2)(ii) are done.

(i) Credit for Previous Actions

This paragraph provides credit for the actions required by paragraph (g) of this AD, if those actions were performed before March 26, 2014 (the effective date of AD 2014 03-08, Amendment 39-17745 (79 FR 9398, February 19, 2014)), using Airbus Service Bulletin A320-27-1206, dated January 28, 2011, and if additional work has been accomplished using Airbus Service Bulletin A320-27-1206, Revision 01, dated October 10, 2011. Airbus Service Bulletin A320-27-1206, dated January 28, 2011, is not incorporated by reference in this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or its delegated agent, or the DAH with a State of Design Authority's design organization approval, as applicable). You are required to assure the product is airworthy before it is returned to service.

(k) Related Information

(1) Refer to Mandatory Continuing Airworthiness Information (MCAI) European Aviation Safety Agency Airworthiness Directive 2012-0012, dated January 23, 2012, for related information. You may examine the MCAI on the Internet at http://www.regulations.gov by searching for and locating Docket No. FAA-2014-0233.

(2) Service information identified in this AD that is not incorporated by reference may be obtained at the addresses specified in paragraphs (l)(4) and (l)(5) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 26, 2014 (79 FR 9398, February 19, 2014).

(i) Airbus Service Bulletin A320-27-1206, Revision 01, dated October 10, 2011.

(ii) Reserved.

(4) For service information identified in this AD, contact Airbus, Airworthiness Office—EAS, 1 Rond Point Maurice Bellonte, 31707 Blagnac Cedex, France; telephone +33 5 61 93 36 96; fax +33 5 61 93 44 51; email account.airworth-eas@airbus.com; Internet http://www.airbus.com.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on April 7, 2014.
John P. Piccola,
Acting Manager, Transport Airplane Directorate, Aircraft Certification Service.

[FR Doc. 2014-09623 Filed 4-28-14; 8:45 am]

BILLING CODE 4910-13-P